DEPARTMENT OF ENERGY

Energy Information Administration

Agency Information Collection Activities: Request for Emergency Review by the Office of Management and Budget

AGENCY: Energy Information Administration, Department of Energy.

SUMMARY: The Energy Information Administration (EIA) has submitted the energy information collection listed at the end of this notice to the Office of Management and Budget (OMB) for emergency processing under provisions of the Paperwork Reduction Act of 1995 (Pub. L. 104-13) (44 U.S.C. 3501 et seq.) by Friday, April 21, 2000. The reason for this emergency clearance request is to obtain data needed for responding to requests from the Secretary of Energy and Congress on the impact of interruptible natural gas contracts, which affected home heating oil supplies in the Northeastern United States during January and February 2000.

The Supplementary Information contains the following: (1) The collection number and title; (2) a summary of the collection of information, which includes the sponsor (i.e., the DOE component), current OMB document number (where applicable), type of request (new, revision, extension, or reinstatement), response obligation (mandatory, voluntary, or required to obtain or retain benefits); (3) a description of the need and proposed use of the information; (4) a description of the likely respondents; and (5) an estimate of the total annual reporting burden (i.e., the estimated number of likely respondents times the proposed frequency of response per year times the average hours per response).

DATES: Comments must be filed by April 20, 2000.

ADDRESSES: Address comments to Mr. Erik Godwin, Department of Energy Desk Officer, Office of Information and Regulatory Affairs, Office of Management and Budget, 726 Jackson Place NW, Washington, DC 20503. (Mr. Godwin may be reached by telephone at (202) 395-3084. Comments should also be addressed to the Statistics and Methods Group at the address immediately below.)

FOR FURTHER INFORMATION CONTACT: Requests for additional information should be directed to Herbert Miller, Statistics and Methods Group, (EI-70), Forrestal Building, U.S. Department of Energy, Washington, DC 20585-0670. Mr. Miller may be contacted by telephone at (202) 426-1103, FAX at (202) 426-1081, or e-mail at Herbert.Miller@eia.doe.gov.

SUPPLEMENTARY INFORMATION: The energy information collection submitted to OMB for review was:

1. EIA-903, “Natural Gas Service Interruptions in the Northeast during January and February 2000.”

2. The Energy Information Administration plans to collect information from 25 companies which deliver natural gas (i.e., have natural gas service arrangements) to consumers in the Northeast.

The form consists of six parts. Part I contains identification data; Part II, information on selected characteristics of interruptible service arrangements provided to end-use customers; Part III, names and contact information for customers with interruptible service agreements who were interrupted; Part IV, baseline monthly and weekly information for those categories of service which were interrupted during December 1999, and January and February 2000; Part V, names and contact information for customers with firm service agreements who were interrupted; and Part VI, names and contact information for customers that declined natural gas service when interruptions were ended and natural gas service was offered/available in the report State. This is a new survey and a new OMB number is being requested. The response obligation will be mandatory.

3. The data are needed to respond to a request from the Secretary of Energy and Congress to jointly conduct a study on the impact of interruptible contracts on home heating oil supplies in the Northeast, during January and February 2000.

4. Respondents will be 25 natural gas companies who deliver natural gas to consumers.

5. The reporting burden is expected to be 500 hours. (25 respondents × 1 response × 20 hours).

Statutory Authority: Section 3507(j)(1) of the Paperwork Reduction Act of 1995 (Pub. L. No. 104-13).

Issued in Washington, DC, April 17, 2000.
Nancy J. Kirkendall,
Acting Director, Statistics and Methods Group, Energy Information Administration.

[FR Doc. 00-9906 Filed 4-18-00; 8:45 am]

BILLING CODE 6450-01-P